DEPARTMENT OF ENERGY

U.S. Department of Energy

Information Collection Extension

AGENCY: Office of Fossil Energy, Department of Energy (DOE).

ACTION: Notice and request for comments.

SUMMARY: FE invites public comments on the proposed collection of information, Form FE-746R Natural Gas Imports and Exports, as required under the Paperwork Reduction Act of 1995. FE requests a three-year extension, with changes, of Form FE-746R, OMB Control Number 1901-0294. Form FE-746R collects information from prospective and actual importers and exporters of natural gas. Data collected on Form FE-746R are published by DOE's Office of Fossil Energy (FE) in monthly and quarterly publications, and are republished by EIA as part of its natural gas supply and demand statistics. Additionally, the data enable FE to monitor trade activity and support FE's market and regulatory analyses.

DATES: FE must receive all comments on this proposed information collection no later than October 29, 2018.

ADDRESSES: Send your comments to Marc Talbert, FE-34, U.S. Department of Energy, Office of Oil and Natural Gas, Office of Fossil Energy, P.O. Box 44375, Washington, DC 20026-4375. Submission by email to marc.talbert@hq.doe.gov is recommended.

FOR FURTHER INFORMATION CONTACT: If you need additional information or copies of the information collection instrument, contact Marc Talbert by telephone at (202) 586-7991, or by email at marc.talbert@hq.doe.gov. Access to the proposed form and instructions can be found at http://energy.gov/fe/services/natural-gas-regulationlguidelines-filing-monthlyreports.

SUPPLEMENTARY INFORMATION: This information collection request contains:

(1) OMB No. 1901-0294;

(2) Information Collection Request Title: Natural Gas Import and Export Application;

(3) Type of Request: Renewal with changes;

(4) Purpose: The Federal Energy Administration Act of 1974 (15 U.S.C. 761 et seq.) and the DOE Organization Act (42 U.S.C. 7101 et seq.) require EIA to carry out a centralized, comprehensive, and unified energy information program. This program collects, evaluates, assembles, analyzes, and disseminates information on energy resource reserves, production, demand, technology, and related economic and statistical information. This information is used to assess the adequacy of energy resources to meet near and longer term domestic demands.

EIA, as part of its effort to comply with the Paperwork Reduction Act of 1995 (44 U.S.C. Chapter 35), provides the general public and other Federal agencies with opportunities to comment on collections of energy information conducted by or in conjunction with EIA. DOE's Office of Fossil Energy (FE) is delegated the authority to regulate natural gas imports and exports under section 3 of the Natural Gas Act of 1938, 15 U.S.C. 717b. In order to carry out its delegated responsibility, FE requires those persons seeking to import and/or export natural gas to file an application providing basic information on the scope and nature of the proposed import/export activity. Once an importer and/or exporter receives authorization from FE, they are required to submit monthly reports of all import and/or export transactions. Form FE-746R collects critical information on U.S. natural gas trade including: name of the importer/exporter; country of origin/destination; international point of entry/exit; name of supplier; volume; price; transporter; geographic market served; and duration of supply contract on a monthly basis. The data are aggregated and the statistical aggregates are published in Natural Gas Imports and Exports, The Natural Gas Monthly, and other reports produced by FE and EIA. The data are used to ensure compliance with the terms and conditions of the authorizations. In addition, the data are used to monitor North American gas trade, which, in turn, enables the Federal government to perform market and regulatory analyses; improve the capability of industry and the government to respond to any future energy-related supply problems; and keep the general public informed of international natural gas trade.

(4a) Proposed Changes to Information Collection: Form FE-746 collects information for all modes of natural gas transportation that are used for importing to and/or exporting from the United States, including by pipeline and, in the case of liquefied natural gas (LNG), imports and exports by vessel. FE proposes a change to the confidentiality policy for select information reported on Form FE-746R. Under FE's current practice, FE publishes aggregate price information for natural gas imports and exports by pipeline at the point of entry or exit, but publishes prices at the cargo level for exports and imports of LNG by vessel. Existing authorization holders raised concerns to FE that the release of their LNG price data at the cargo level may cause competitive harm to them. To address this issue, FE proposes to align price data reporting for natural gas imports and exports by vessel—including LNG—with current data release policies for pipeline import and export movements. Specifically, FE proposes to publish only volume-weighted average import and export prices for LNG and other modes of natural gas transportation by point of entry or exit, as is currently the practice for pipeline imports and exports. Thus, instead of a price being published for each LNG cargo imported or exported, a monthly volume-weighted average price will be published for each point of LNG import or export.

FE proposes the following change in the confidentiality policy for Form FE-746. The current statement “Information reported on Form FE-746R will be considered public information and may be publicly released in company identifiable form” will be replaced with the new data confidentiality statement that will read: “The following information that is reported on Form FE-746R will be protected and not disclosed to the public to the extent that it satisfies the criteria for exemption under the Freedom of Information Act (FOIA), 5 U.S.C. 552, as amended, and the Department of Energy (DOE) regulations, 10 CFR 1004.11, implementing the FOIA.

• The Price at Import or Export Point.

• In the case of natural gas imports and exports for all modes of transportation except pipeline, The name of the Specific Purchaser/End User.”

Questions pertaining to Specific Purchaser/End User do not appear on the version of Form FE-746R required for pipeline imports and exports.

All other information reported on Form FE-746R will be considered public information and may be publicly released in company identifiable form.

Data protection methods will not be applied to the aggregate statistical data published from submissions on Form FE-746R. There may be some statistics that are based on data from fewer than three import or export transactions. In these cases, it may be possible for a knowledgeable person to closely estimate the information reported by a specific respondent.

Transaction-level price information for natural gas and LNG imports and exports, including prices for individual LNG import and export cargos, and the name of the Specific Purchaser/End User, will not be publicly released. No information related to natural gas specific customers/end users is currently published. Natural gas import and export price information, including prices for LNG imports and exports, will be aggregated and published by point of entry or exit in FE's and EIA's data publications featuring natural gas import/export information, including the Office of Fossil Energy's LNG Monthly and EIA's Natural Gas Monthly.

FE also proposes to collect heat content in Btu per cubic foot for LNG imports and exports to account for variations in the heat content of gas being imported from and exported to various countries, so that import and export volume data may be analyzed according to objective standardized units of measurement. The heat content information reported for LNG imports and exports on Form FE-746R will not be protected and may be publicly released in company identifiable form.

(5) Annual Estimated Number of Respondents: 371;

(6) Annual Estimated Number of Total Responses: 4,452;

(7) Annual Estimated Number of Burden Hours: 13,356;

(8) Annual Estimated Reporting and Recordkeeping Cost Burden: The cost of the burden hours is estimated to be $1,010,916 (13,356 burden hours times $75.69 per hour). FE estimates that respondents will have no additional costs associated with the surveys other than burden hours.

Comments are invited on whether: (a) The proposed collection of information is necessary for the proper performance of agency functions, including whether the information shall have practical utility; (b) FE's estimate of the burden of the proposed collection of information, including the validity of the methodology and assumptions used, is accurate; (c) FE can improve quality, utility, and clarity of the information it will collect; and (d) FE can minimize the burden of the collection of information on respondents, such as automated collection techniques or other forms of information technology.

Statutory Authority: Section 13(b) of the Federal Energy Administration Act of 1974, Pub. L. 93-275, codified at 15 U.S.C. 772(b) and Section 3 of the Natural Gas Act of 1938, codified at 15 U.S.C. 717b.

Signed in Washington, DC, on August 24, 2018.
Shawn Bennett,
Deputy Assistant Secretary, Office of Oil and Natural Gas.

[FR Doc. 2018-18829 Filed 8-29-18; 8:45 am]

BILLING CODE 6450-01-P